DEPARTMENT OF DEFENSE

Department of the Air Force

[AFD-2071]

Notice of Intent To Grant a Partially Exclusive Patent License

AGENCY: Department of the Air Force, Department of Defense.

ACTION: Notice of intent.

SUMMARY: Pursuant to the Bayh-Dole Act and implementing regulations, the Department of the Air Force hereby gives notice of its intent to grant a partially exclusive (the field to include First Responder Market) patent license to The Science and Engineering Corps having a place of business at 9179 AA Highway, California, KY 41007.

DATES: Written objections must be filed no later than fifteen (15) calendar days after the date of publication of this Notice.

ADDRESSES: Submit written objections to Pamela Kallio, AFRL/SPT, 711 East Monument Avenue, Dayton, OH 45402; Phone: (937) 999-1621; or Email: pamela.kallio.3.ctr@us.af.mil. Include Docket No. AFD 2071 in the subject line of the message.

FOR FURTHER INFORMATION CONTACT: Pamela Kallio, AFRL/SPT, 711 East Monument Avenue, Dayton, OH 45402; Phone: (937) 999-1621; or Email: pamela.kallio.3.ctr@us.af.mil.

SUPPLEMENTARY INFORMATION:

Abstract of Patent

Personal hydration systems with cooling and/or warming capability, and the components thereof are disclosed. The personal hydration systems may include a liquid transport system for transporting cooling or heating fluid between a reservoir and a pad, which pad is configured for wearing adjacent to a wearer's body. A pump is provided for pumping the liquid through the system. A drinking tube is connected to the system for removing liquid from the system. Liquid can be removed from the system for drinking by sucking on the end of the drinking tube. A check valve is used to bypass the pump so the user will not have to suck the liquid through the pump. Alternatively, liquid can be removed by spraying the liquid out of the drinking tube using the power of the pump.

Intellectual Property

U.S. Patent No. 11,717,074, issued on August 8, 2023, and entitled, “Personal Hydration System With Cooling or Warming Capability.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR part 404.

Tommy W. Lee,
Acting Air Force Federal Register Liaison Officer.

[FR Doc. 2024-16810 Filed 7-30-24; 8:45 am]

BILLING CODE 3911-44-P